DEPARTMENT OF HEALTH AND HUMAN SERVICES

National Institutes of Health

Proposed Collection; Comment Request: Palliative Care: Conversations Matter Evaluation

SUMMARY: In compliance with the requirement of Section 3506(c)(2)(A) of the Paperwork Reduction Act of 1995, for opportunity for public comment on proposed data collection projects, the National Institute of Nursing Research (NINR), the National Institutes of Health (NIH) will publish periodic summaries of proposed projects to be submitted to the Office of Management and Budget (OMB) for review and approval.

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

To obtain a copy of the data collection plans and instruments, submit comments in writing, or request more information on the proposed project, contact Ms. Adrienne Burroughs, Health Communications Specialist, Office of Communications and Public Liaison, NINR, NIH, Building 31, Room 5B10, 31 Center Drive, Bethesda, MD 20892, or call non-toll-free number (301) 496-0256, or Email your request, including your address to: adrienne.burroughs@nih.gov.

Comments regarding this information collection are best assured of having their full effect if received within 60-days of the date of this publication.

Proposed Collection

Palliative Care: Conversations Matter Evaluation -0925—New—National Institute of Nursing Research (NINR), National Institutes of Health (NIH)

Need and Use of Information Collection: NINR developed Palliative Care: Conversations Matter, a pediatric palliative care campaign to address the communications challenges faced by health care providers who recommend and provide palliative care to pediatric populations. NINR is launching this effort to increase the use of palliative care for children living with serious illness or life-limiting conditions. The Palliative Care: Conversations Matter evaluation will assess the information and materials being disseminated as part of the official campaign. Survey findings will help (1) Determine if the campaign is effective, relevant, and useful to health care providers who recommend and provide palliative care to pediatric populations; (2) to better understand the information needs of health care providers to inform future campaign efforts; and (3) examine how effective the campaign materials are in starting and continuing a pediatric palliative care conversation and addressing the communications needs of health care providers around this topic.

OMB approval is requested for 3 years. There are no costs to respondents other than their time. The total estimated annualized burden hours are 200.

Estimated Annualized Burden Hours

Table A-12-1—Estimates of Annual Burden Hours
Type of respondents | Number of respondents | Frequency of response | Average time per response (in hours ) | Total burden hours
Physicians | 150 | 2 | 20/60 | 100
Nurses | 150 | 2 | 20/60 | 100
Total | 300 |  |  | 200

Dated: June 5, 2013.
Amanda Greene,
Science Evaluation Officer, NINR, National Institutes of Health.

[FR Doc. 2013-14173 Filed 6-13-13; 8:45 am]

BILLING CODE 4140-01-P